DEPARTMENT OF COMMERCE

International Trade Administration

[A-588-850, A-588-851, A-485-805]

Certain Large Diameter Carbon and Alloy Seamless Standard, Line and Pressure Pipe From Japan; Certain Small Diameter Carbon and Alloy Seamless Standard, Line and Pressure Pipe From Japan and Romania: Continuation of Antidumping Duty Orders

AGENCY: Enforcement and Compliance, International Trade Administration, Department of Commerce.

DATES: Applicable November 13, 2017.

SUMMARY: As a result of the determinations by the Department of Commerce (the Department) and the U.S. International Trade Commission (USITC) that revocation of the antidumping duty orders on certain large diameter carbon and alloy seamless standard, line and pressure pipe (large diameter pipe) from Japan and certain small diameter carbon and alloy seamless standard, line and pressure pipe (small diameter pipe) from Japan and Romania would likely lead to continuation or recurrence of dumping and material injury to an industry in the United States, the Department is publishing a notice of continuation of the antidumping duty orders.

FOR FURTHER INFORMATION CONTACT: Thomas Schauer, AD/CVD Operations, Office I, Enforcement and Compliance, International Trade Administration, U.S. Department of Commerce, 1401 Constitution Avenue NW., Washington, DC 20230; telephone (202) 482-0410.

SUPPLEMENTARY INFORMATION:

Background

On June 26, 2000, and August 10, 2000, the Department published the AD orders on large diameter pipe from Japan and small diameter pipe from Japan and Romania, respectively.¹ On September 1, 2016, the Department published the notice of initiation of the third sunset review of the antidumping duty orders on large diameter pipe from Japan and small diameter pipe from Japan and Romania pursuant to section 751(c) of the Tariff Act of 1930, as amended (the Act).² On December 16, 2016, the USITC instituted its review of the orders.³

¹ See Notice of Antidumping Duty Orders: Certain Large Diameter Carbon and Alloy Seamless Standard, Line and Pressure Pipe from Japan; and Certain Small Diameter Carbon and Alloy Seamless Standard, Line and Pressure Pipe from Japan and the Republic of South Africa, 65 FR 39360 (June 26, 2000), and Notice of Amended Final Determination of Sales at Less Than Fair Value and Antidumping Duty Order: Certain Small Diameter Carbon and Alloy Seamless Standard, Line and Pressure Pipe from Romania, 65 FR 48963 (August 10, 2000).

² See Initiation of Five-Year (Sunset) Reviews, 81 FR 60343 (September 1, 2016).

³ See Carbon and Alloy Seamless Standard, Line, and Pressure Pipe from Japan and Romania Institution of Five-Year Reviews; Notice of Commission Determination to Conduct Full Five Year Reviews, 81 FR 91199 (December 16, 2016).

As a result of its review, the Department determined that revocation of the antidumping duty orders on large diameter pipe from Japan and small diameter pipe from Japan and Romania would likely lead to continuation or recurrence of dumping and, therefore, notified the USITC of the magnitude of the margins of dumping likely to prevail should the orders be revoked.⁴

⁴ See Certain Large Diameter Carbon and Alloy Seamless Standard, Line and Pressure Pipe from Japan; Certain Small Diameter Carbon and Alloy Seamless Standard, Line and Pressure Pipe from Japan and Romania: Final Results of the Expedited Third Five-Year Sunset Reviews of the Antidumping Duty Orders, 81 FR 93648 (December 21, 2016).

On October 16, 2017, the USITC published its determination, pursuant to section 751(c)(1) of the Act, that revocation of the antidumping duty orders on large diameter pipe from Japan and small diameter pipe from Japan and Romania would be likely to lead to continuation or recurrence of material injury to an industry in the United States within a reasonably foreseeable time.⁵

⁵ See Carbon and Alloy Seamless Standard, Line, and Pressure Pipe from Japan and Romania; Determinations, 82 FR 48113 (October 16, 2017) and USITC Publication 4731 (October 2017), titled Carbon and Alloy Seamless Standard, Line, and Pressure Pipe from Japan and Romania, Investigation Nos. 731-TA-847 and 849 (Third Review).

Scope of the Orders

Large Diameter Pipe From Japan

The products covered by this order are large diameter seamless carbon and alloy (other than stainless) steel standard, line, and pressure pipes. The seamless pipes subject to this order are currently classifiable under the subheadings 7304.10.10.30, 7304.10.10.45, 7304.10.10.60, 7304.10.50.50, 7304.19.10.30, 7304.19.10.45, 7304.19.10.60, 7304.19.50.50, 7304.31.60.10, 7304.31.60.50, 7304.39.00.04, 7304.39.00.06, 7304.39.00.08, 7304.39.00.36, 7304.39.00.40, 7304.39.00.44, 7304.39.00.48, 7304.39.00.52, 7304.39.00.56, 7304.39.00.62, 7304.39.00.68, 7304.39.00.72, 7304.51.50.15, 7304.51.50.45, 7304.51.50.60, 7304.59.20.30, 7304.59.20.55, 7304.59.20.60, 7304.59.20.70, 7304.59.60.00, 7304.59.80.30, 7304.59.80.35, 7304.59.80.40, 7304.59.80.45, 7304.59.80.50, 7304.59.80.55, 7304.59.80.60, 7304.59.80.65, and 7304.59.80.70 of the Harmonized Tariff Schedule of the United States (HTSUS). The HTSUS subheading is provided for convenience and customs purposes. The written product description remains dispositive.⁶

⁶ A full description of the scope of the order is contained in the Memorandum, “Issues and Decision Memorandum for the Final Results of the Expedited Third Sunset Reviews of the Antidumping Duty Orders on Certain Large Diameter Carbon and Alloy Seamless Standard, Line and Pressure Pipe from Japan (A-588-850), Certain Small Diameter Carbon and Alloy Seamless Standard, Line and Pressure Pipe from Japan (A-588-851) and Romania (A-485-805),” dated December 15, 2016.

Small Diameter Pipe From Japan and Romania

The products covered by these orders include small diameter seamless carbon and alloy (other than stainless) steel standard, line, and pressure pipes and redraw hollows. The seamless pipes subject to these orders are currently classifiable under the subheadings 7304.10.10.20, 7304.10.50.20, 7304.19.10.20, 7304.19.50.20, 7304.31.30.00, 7304.31.60.50, 7304.39.00.16, 7304.39.00.20, 7304.39.00.24, 7304.39.00.28, 7304.39.00.32, 7304.51.50.05, 7304.51.50.60, 7304.59.60.00, 7304.59.80.10, 7304.59.80.15, 7304.59.80.20, and 7304.59.80.25 of the HTSUS. The HTSUS subheading is provided for convenience and customs purposes. The written product description remains dispositive.⁷

⁷ Id.

Continuation of the Orders

As a result of these determinations by the Department and the USITC that revocation of the antidumping duty orders would be likely to lead to continuation or recurrence of dumping and material injury to an industry in the United States, pursuant to section 751(d)(2) of the Act, the Department hereby orders the continuation of the antidumping orders on large diameter pipe from Japan and small diameter pipe from Japan and Romania. U.S. Customs and Border Protection will continue to collect antidumping duty cash deposits at the rates in effect at the time of entry for all imports of subject merchandise. The effective date of the continuation of these orders will be the date of publication in the Federal Register of this notice of continuation. Pursuant to section 751(c)(2) of the Act, the Department intends to initiate the next five-year review of the orders not later than 30 days prior to the fifth anniversary of the effective date of continuation.

These five-year (sunset) reviews and this notice are in accordance with section 751(c) of the Act and published pursuant to section 777(i)(1) of the Act.

Dated: November 6, 2017.
Gary Taverman,
Deputy Assistant Secretary for Antidumping and Countervailing Duty Operations, Performing the Non-exclusive Functions and Duties of the Assistant Secretary for Enforcement and Compliance.

[FR Doc. 2017-24515 Filed 11-9-17; 8:45 am]

BILLING CODE 3510-DS-P